DEPARTMENT OF THE INTERIOR

Bureau of Land Management

[CA-930-1920-ET-4064; CACA 43173]

Notice of Proposed Withdrawal and Opportunity for Public Meeting; California

AGENCY: Bureau of Land Management, Interior.

ACTION: Notice.

SUMMARY: The Forest Service proposes to withdraw approximately 2,030 acres in the Inyo National Forest to facilitate the establishment of the McAfee Research Natural Area. This notice closes the land for up to 2 years from mining. The land will remain open to mineral leasing and the Materials Act of 1947.

DATES: Comments and requests for a public meeting must be received by July 31, 2003.

ADDRESSES: Forest Supervisor, Inyo National Forest, 879 North Main Street, Bishop, California 93514.

FOR FURTHER INFORMATION CONTACT: Vernon McLean, Inyo National Forest, 760-873-2472.

SUPPLEMENTARY INFORMATION: On April 13, 2001, the Inyo National Forest, Forest Service, filed an application to withdraw the following described National Forest System land from location and entry under the United States mining laws (30 U.S.C. ch. 2), subject to valid existing rights:

Mount Diablo Meridian

All that portion of land within the Inyo National Forest, County of Inyo, State of California, described as follows: All those portions of sections 4, 8, 9, 10, 15, 16, 17, 20, 21 and 22, T. 4 S., R. 34 E., Mount Diablo Meridian, more particularly described as follows:

Beginning at a 3¼ inch capped aluminum monument, stamped “McAfee A” which lies on a peak, 13,189 feet in elevation, (Point A, Exhibit A), which is in the NW¼, section 9;

Thence, southwesterly (mostly southerly), approximately 0.88 miles to a 3¼ inch capped aluminum monument, stamped “McAfee B” which lies on a peak, 12,970 feet in elevation, (Point B, Exhibit A), which is in the SE¼, section 8;

Thence, southerly, approximately 1.43 miles to a 3¼ inch capped aluminum monument, stamped “McAfee C” which lies at the northeast corner of the Barcroft Observatory Site, (Point C, Exhibit A), which is in the NE¼, section 20;

Thence, southwesterly (mostly westerly), approximately 0.79 miles to a 3¼ inch capped aluminum monument, stamped “McAfee D” which lies on a peak, 12,205 feet in elevation, (Point D, Exhibit A), which is in the S½, section 21;

Thence, easterly approximately 1.29 miles to a 3¼ inch capped aluminum monument, stamped “McAfee E” which lies on a peak, 11,783 feet in elevation, (Point E, Exhibit A), which is in the E½, section 22;

Thence, northerly approximately 0.80 miles to a 3¼ inch capped aluminum monument, stamped “McAfee F” which lies on a peak, 11,745 feet in elevation, (Point F, Exhibit A), which is in the SE¼, section 15;

Thence, northwesterly (mostly northerly) approximately 1.06 miles to a 3¼ inch capped aluminum monument, stamped “McAfee G” which lies on knoll at the easterly end of a plateau, at approximately 11,880 feet in elevation (Point G, Exhibit A), which is in the south ½, section 10;

Thence, westerly approximately 1.32 miles along the edge of the plateau to a 3¼ inch capped aluminum monument, stamped “McAfee”, which is in the S½, section 9;

Thence, northerly approximately 0.66 miles along the edge of the plateau, ascending to a 3¼ inch capped aluminum monument, stamped “McAfee H” which lies on point, approximately 13,091 feet in elevation (Point H, Exhibit A), which is in the SW¼, section 4;

Thence, southwesterly approximately 0.3 miles to the point of beginning.

The area described contains approximately 2,030 acres in Inyo County.

The land proposed for withdrawal is to be designated the McAfee Research Natural Area (MRNA). Establishment of the MRNA is valuable for maintaining the interrelationships of terrestrial and aquatic systems, and facilitates research, monitoring and protection. The withdrawal is needed to prevent potential surface disturbing activities from the location of mining claims within the MRNA. The requested duration of the withdrawal is 20 years.

For a period of 90 days from the date of publication of this notice, all persons who wish to submit comments, suggestions, or objections in connection with the proposed withdrawal may present their views in writing to the Forest Supervisor, Inyo National Forest. Since the Forest Service is requesting this withdrawal, it is responsible for preparing any studies, analyses, and reports that are required by applicable statutes for the processing of this application. Those studies, analyses, and reports will be used by the Secretary of the Interior to make a decision as to whether this withdrawal should be authorized.

Notice is hereby given that an opportunity for a public meeting is afforded in connection with the proposed withdrawal. All interested persons who desire a public meeting for the purpose of being heard on the proposed withdrawal must submit a written request to the Forest Supervisor within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. The temporary uses which may be permitted during this segregative period are those which are determined to be compatible with the use of the land by Forest Service.

Duane Marti,
Acting Chief, Branch of Lands (CA-931).

[FR Doc. 03-10811 Filed 5-1-03; 8:45 am]

BILLING CODE 4310-40-P